DEPARTMENT OF TRANSPORTATION

National Highway Traffic Safety Administration

[Docket No. NHTSA-2015-0013]

National Emergency Medical Services Advisory Council (NEMSAC); Notice of Federal Advisory Committee Meeting

AGENCY: National Highway Traffic Safety Administration (NHTSA), U.S. Department of Transportation (DOT)

ACTION: Meeting Notice—National Emergency Medical Services Advisory Council.

SUMMARY: The NHTSA announces a meeting of NEMSAC to be held in the Metropolitan Washington, DC, area. This notice announces the date, time, and location of the meeting, which will be open to the public, as well as opportunities for public input to the NEMSAC. The purpose of NEMSAC, a nationally recognized council of emergency medical services representatives and consumers, is to advise and consult with the U.S. Department of Transportation (DOT) and the Federal Interagency Committee on EMS (FICEMS) on matters relating to emergency medical services (EMS). Pre-registration is required to attend.

DATES: This open meeting will be held on March 31, 2015, from 1 p.m. to 5:00 p.m. EDT, and on April 1, 2015 from, 9 a.m. to 12 p.m. EDT. A public comment period will take place on March 31, 2015, at approximately 4:30 p.m. EDT and April 1, 2015, at approximately 10 a.m. EDT. Written comments from the public must be received no later than March 26, 2015.

ADDRESSES: The meeting will be held at DOT Headquarters Building at 1200 New Jersey Avenue SE., Washington, DC 20590 in the Conference Center on the ground floor of the West building.

FOR FURTHER INFORMATION CONTACT: Drew Dawson, Director, U.S. Department of Transportation, Office of Emergency Medical Services, 1200 New Jersey Avenue SE., NTI-140, Washington, DC 20590; telephone 202-366-9966; email Drew.Dawson@dot.gov.

Required Registration and Access Information: This meeting will be open to the public, however pre-registration is required to comply with security procedures. Government issued photo identification must be provided to enter the DOT Building and it is suggested that visitors arrive 20-30 minutes early in order to facilitate entry. Members of the public wishing to attend must register online at http://events.signup4.com/NEMSACMarch2015 no later than March 26, 2015. Please be aware that visitors to DOT are subject to search and must pass through a magnetometer. Weapons of any kind are strictly forbidden in the building unless authorized through the performance of the official duties of your employment (i.e. law enforcement officer).

SUPPLEMENTARY INFORMATION: Notice of this meeting is given under the Federal Advisory Committee Act, Public Law 92-463, as amended (5 U.S.C. App.). The NEMSAC is authorized under Section 31108 of the Moving Ahead with Progress in the 21st Century Act of 2012.

Tentative Agenda of National EMS Advisory Council Meeting

The tentative agenda includes the following:

Tuesday, March 31, 2015 (1 p.m. to 5 p.m. EDT)

(1) Opening Remarks by Council Chair and Administration Officials

(2) Disclosure of Conflicts of Interests by Members

(3) Reports of liaisons from the Departments of Transportation, Homeland Security, and Health & Human Services

(4) Presentation and discussion from the Office of National Drug Control Policy on the use of naloxone in emergency medical services systems

(5) Presentation, Discussion and Possible Adoption of Reports and Recommendations from the following NEMSAC Workgroups:

a. NEMSAC Annual Report 2014-2015

b. NEMSAC Process Improvement

c. NEMSAC New-member Orientation

(6) Other Business of the Council

(7) General Public Comment Period (approximately 4:30 p.m. EDT)

Wednesday, April 1, 2015 (9 a.m. to 12 p.m. EDT)

(1) Unfinished Business/Continued Discussion from Previous Day

(2) Public Comment Period (approximately 10 a.m. EDT)

(3) Adoption of NEMSAC Work Products

(4) Next Steps and Adjourn

A final agenda as well as meeting materials will be available to the public online through www.EMS.gov on or before March 24, 2015.

Public Comment: Members of the public are encouraged to comment directly to the NEMSAC. There are two public comment opportunities as indicated above. In order to allow as many people as possible to speak, speakers are requested to limit their remarks to 5 minutes. Written comments from members of the public will be distributed to NEMSAC members at the meeting and should reach the NHTSA Office of EMS no later than September 5, 2014. Written comments may be submitted by either one of the following methods: (1) By email: nemsac@dot.gov or (2) by fax: (202) 366-7149.

Dated: March 3, 2015.
Jeffrey P. Michael,
Associate Administrator for Research and Program Development.

[FR Doc. 2015-05281 Filed 3-5-15; 8:45 am]

BILLING CODE 4910-59-P